DEPARTMENT OF COMMERCE

International Trade Administration

A-570-863

Honey from the People's Republic of China: Rescission and Final Results of Antidumping Duty New Shipper Reviews

AGENCY: Import Administration, International Trade Administration, Department of Commerce.

SUMMARY: On June 7, 2006, the U.S. Department of Commerce (the Department) published preliminary results in the new shipper reviews of the antidumping order on honey from the People's Republic of China (PRC). Honey from the People's Republic of China: Intent to Rescind and Preliminary Results of Antidumping Duty New Shipper Reviews, 71 FR 32923 (June 7, 2006) (NSR7 Preliminary Results). These reviews cover two exporters, Shanghai Taiside Trading Co., Ltd. (Taiside) and Wuhan Shino-Food Trade Co., Ltd. (Shino-Food). The period of review (POR) is December 1, 2004, through May 31, 2005. While we have analyzed the record and comments from interested parties, we have made no changes to the preliminary results based on these comments. However, we have made a slight change to the calculation of Taiside's margin based on the discovery of a clerical error. For these final results, therefore, we have determined that the new shipper review for Shino-Food should be rescinded because the sale made by Shino-Food was not bona fide. We have also determined that the sale made by Taiside is bona fide and that the sale has been made below normal value.

EFFECTIVE DATE: October 4, 2006.

FOR FURTHER INFORMATION CONTACT: Kristina Boughton or Bobby Wong, AD/CVD Operations, Office 9, Import Administration, International Trade Administration, U.S. Department of Commerce, 14th Street and Constitution Avenue, NW, Washington, DC 20230; telephone: (202) 482-8173 or (202) 482-0409, respectively.

SUPPLEMENTARY INFORMATION:

Background

On June 7, 2006, the Department published the preliminary results of these reviews. NSR7 Preliminary Results. Since the NSR7 Preliminary Results the following events have occurred:

On June 22, 2006, we extended the time limit for submitting further information to value the factors of production until July 18, 2006. On July 12, 2006, we received a surrogate value submission from Taiside and Shino-Food. On July 18, 2006, we received a rebuttal surrogate value submission from the American Honey Producers Association and the Sioux Honey Association (collectively, petitioners).

We invited parties to comment on the NSR7 Preliminary Results and received one case brief each from Shino-Food and Taiside, on August 4, 2006,¹ and July 28, 2006, respectively. We received a rebuttal brief from petitioners on August 3, 2006. None of the parties requested a public hearing. On August 18, 2006, the Department implemented the temporary suspension of the new shipper bonding provision in these reviews, in accordance with the Pension Protection Act of 2006, Pub. L. No. 109-280, § 1632, 120 Stat. 780 (2006), which was signed into law on August 17, 2006.² The legislation suspended the ability of a U.S. importer to satisfy the antidumping duty deposit requirements by posting a bond or other security deposit in lieu of a cash deposit with U.S. Customs and Border Protection (CBP) during the period April 1, 2006, to June 30, 2009.

¹ On July 28, 2006, we received a case brief from Shino-Food, which we subsequently rejected as containing new information. On August 4, 2006, Shino-Food re-filed its brief, per the Department's instructions, without the new information.

² On August 18, 2006, petitioners filed a letter requesting that the Department implement the new bonding provisions and suspend the bonding privileges for Taiside and Shino-Food in accordance with the Pension Protection Act.

On August 28, 2006, the Department extended the deadline for the final results to September 27, 2006. Honey from the People's Republic of China: Notice of Extension of Time Limit for Final Results of 2004/2005 New Shipper Review, 71 FR 50885 (August 28, 2006).

Scope of the Antidumping Duty Order

The products covered by this order are natural honey, artificial honey containing more than 50 percent natural honey by weight, preparations of natural honey containing more than 50 percent natural honey by weight, and flavored honey. The subject merchandise includes all grades and colors of honey whether in liquid, creamed, comb, cut comb, or chunk form, and whether packaged for retail or in bulk form.

The merchandise subject to this order is currently classifiable under subheadings 0409.00.00, 1702.90.90, and 2106.90.99 of the Harmonized Tariff Schedule of the United States (HTSUS). Although the HTSUS subheadings are provided for convenience and customs purposes, the Department's written description of the merchandise under order is dispositive.

Analysis of Comments Received

All issues raised in the briefs are addressed in the “Memorandum to the Assistant Secretary: Issues and Decision Memorandum for the Final Results of the 2004-2005 New Shipper Reviews of Honey from the People's Republic of China,” dated September 27, 2006 (Issues & Decision Memorandum), which is hereby adopted by this notice. A list of the issues raised, all of which are in the Issues and Decision Memorandum, is attached to this notice as Appendix I. Parties can find a complete discussion of all issues raised in the briefs and the corresponding recommendations in this public memorandum which is on file in the Central Records Unit (CRU), room B-099 of the Department of Commerce building. In addition, a complete version of the Issues and Decision Memorandum can be accessed directly on the Web at http://www.trade.gov/ia/. The paper copy and electronic version of the Issues and Decision Memorandum are identical in content.

New Shipper Status

For these final results, no party contested the bona fides of Taiside's sale, therefore we continue to find, as in the NSR7 Preliminary Results, that Taiside has met the requirements to qualify as a new shipper during the POR and that Taiside's sale of honey to the United States is an appropriate transaction for a new shipper review. Regarding Shino-Food, as further discussed in the Issues & Decision Memorandum at Comments 1-1c, we are continuing to find that Shino-Food's sale in question was not a bona fide sale and that Shino-Food did not meet the requirements to qualify for a new shipper review during the POR. See NSR7 Preliminary Results and “Rescission of New Shipper Review,” below.

Rescission of New Shipper Review

As discussed in the Issues & Decision Memorandum at Comments 1-1c, because the Department found Shino-Food's single POR sale to be non-bona fide, it is not subject to review. Therefore, the Department is rescinding this review because Shino-Food had no reviewable sales during the POR. See Tianjin Tiancheng Pharmaceutical Co., Ltd. v. United States, 366 F. Supp. 2d 1246, 1249 (CIT 2005) (“{P}ursuant to the rulings of the Court, Commerce may exclude sales from the export price calculation where it finds that they are not bona fide”).

Changes since the NSR7 Preliminary Results

We have not made any changes to the margin-specific calculations for Taiside based on comments received from interested parties. However, for these final results, instead of rounding Taiside's gross unit price to two digits after the decimal point, as we did in the preliminary results, we used a more exact gross unit price from Taiside's reported Section C database, which included four digits after the decimal point. This affected the margin calculation for Taiside. For a discussion of this change, please see “Memorandum to the File: Seventh Antidumping Duty New Shipper Review of the Antidumping Duty Order on Honey from the People's Republic of China for Shanghai Taiside Trading Co., Ltd. (Taiside),” dated September 27, 2006 (Taiside Analysis Memo).

Final Results of Review

We determine that the following antidumping duty margin exists:

Exporter | Margin (percent)
Shanghai Taiside Trading Co., Ltd. | 39.63%%

For details on the calculation of the antidumping duty weighted-average margin for Taiside, see Taiside Analysis Memo. A public version of this memorandum is on file in the CRU.

Assessment Rates

Pursuant to 19 CFR 351.212(b), the Department will determine, and CBP shall assess, antidumping duties on all appropriate entries. The Department will issue appropriate assessment instructions directly to CBP within 15 days of publication of these final results of review. For assessment purposes, where possible, we calculated importer-specific assessment rates for honey from the PRC on a per-unit basis. Specifically, we divided the total dumping margins (calculated as the difference between normal value and export price or constructed export price) for each importer by the total quantity of subject merchandise sold to that importer during the POR to calculate a per-unit assessment amount. We will direct CBP to levy importer-specific assessment rates based on the resulting per-unit (i.e., per-kilogram) rates by the weight in kilograms of each entry of the subject merchandise during the POR.

Cash Deposits

The following cash-deposit requirement will be effective upon publication of these final results for shipments of the subject merchandise entered, or withdrawn from warehouse, for consumption on or after the publication date of the final results, as provided by section 751(a)(2)(C) of the Tariff Act of 1930, as amended (the Act). For subject merchandise produced and exported by Taiside, we will establish a per-kilogram cash deposit rate that is equivalent to the company-specific cash deposit established in this review. With respect to these reviews, the Department will also notify CBP that a cash deposit of 212.39 percent ad valorem should be collected for any entries produced/exported by Shino-Food. These deposit requirements shall remain in effect until publication of the final results of the next administrative review.

Notification to Interested Parties

This notice also serves as the final reminder to importers of their responsibility under 19 CFR 351.402(f) to file a certificate regarding the reimbursement of antidumping duties prior to liquidation of the relevant entries during this review period. Failure to comply with this requirement could result in the Secretary's presumption that reimbursement of antidumping duties occurred and in the subsequent assessment of double antidumping duties.

This notice also serves as the only reminder to parties subject to administrative protective order (APO) of their responsibility concerning the return/destruction or conversion to judicial protective order of proprietary information disclosed under APO in accordance with 19 CFR 351.305(a)(3). Failure to comply is a violation of the APO.

These new shipper reviews and this notice are published in accordance with sections 751(a)(2)(B) and 777(i)(1) of the Act.

Dated: September 27, 2006.
James C. Leonard, III
Acting Assistant Secretary for Import Administration.

Appendix I

List of Issues

Company-Specific Issues

Wuhan Shino-Food-Related Issues

Comment 1: Rescission of Shino-Food

Comment 1a: Price & Quantity

Comment 1b: Payment of Freight and Antidumping Duty Expenses

Comment 1c: Other Indicia of Non-Bona Fides Sale

Shanghai Taiside-Related Issues

Comment 2 Appropriate Surrogate Value for Bottles & Caps

Comment 3 Appropriate Surrogate Value for Honey

[FR Doc. 06-8486 Filed 10-3-06; 8:45 am]

BILLING CODE 3510-DS-S